OFFICE OF PERSONNEL MANAGEMENT

Submission for Review: CyberCorps®: Scholarship for Service (SFS) Registration website

AGENCY: Office of Personnel Management.

ACTION: 30-Day notice and request for comments.

SUMMARY: The Office of Personnel Management (OPM), Human Resources Solutions Division, offers the general public and other Federal agencies the opportunity to comment on an existing information collection request (ICR) 3206-0246, SFS Registration. As required by the Paperwork Reduction Act of 1995, as amended by the Clinger-Cohen Act, OPM is soliciting comments for this collection. The information collection was previously published in the Federal Register on December 11, 2017, page 58227 allowing for a 60-day public comment period. No comments were received for this information collection. The purpose of this notice is to allow an additional 30 days for public comments.

DATES: Comments are encouraged and will be accepted until August 6, 2018. This process is conducted in accordance with 5 CFR 1320.1.

ADDRESSES: Interested persons are invited to submit written comments on the proposed information collection to the Office of Information and Regulatory Affairs, Office of Management Budget, 725 17th Street NW, Washington, DC 20503, Attention: Desk Officer for the Office of Personnel Management or sent via email to oira_submission@omb.eop.gov or faxed to (202) 395-6974.

FOR FURTHER INFORMATION CONTACT: A copy of this ICR, with applicable supporting documentation, may be obtained by contacting the Office of Information and Regulatory Affairs, Office of Management Budget, 725 17th Street NW, Washington, DC 20503, Attention: Desk Officer for the Office of Personnel Management or sent via email to oira_submission@omb.eop.gov or faxed to (202) 395-6974. Please contact Sara Kunkle at 202-553-1334 if you have any questions.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The SFS Program was established by the National Science Foundation, in collaboration with the U.S. Office of Personnel Management and the Department of Homeland Security, in accordance with the Cybersecurity Enhancement Act of 2014 (Pub. L. No: 113-274). This initiative reflects the critical need for Information Technology (IT) professionals, industrial control system security professionals, and security managers in Federal, State, local and tribal governments. Students identified by their institutions for SFS Scholarships must meet selection criteria based on prior academic performance, likelihood of success in obtaining the degree, and suitability for government employment. Upon graduation, scholarship recipients are required to work a period equal to the length of their scholarship in Federal, State, Local or Tribal Government or in other approved organization as cybersecurity professionals. Approval of the web page is necessary to facilitate the timely registration, selection and placement of program-enrolled students in Government agencies.

Analysis

Agency: CyberCorps®: Scholarship for Service Program Staff Acquisition, Office of Personnel Management.

Title: Scholarship for Service (SFS) Program internet Site.

OMB Number: 3206-0246.

Affected Public: Individual or Households.

Number of Respondents: 900.

Estimated Time per Respondent: 1 hour.

Total Burden Hours: 900 hours.

U.S. Office of Personnel Management.
Jeff T.H. Pon,
Director.

[FR Doc. 2018-14447 Filed 7-3-18; 8:45 am]

BILLING CODE 6325-43-P